FEDERAL COMMUNICATIONS COMMISSION

Notice of Public Information Collection(s) Being Submitted for Review to the Office of Management and Budget

February 13, 2006.

SUMMARY: The Federal Communications Commission, as part of its continuing effort to reduce paperwork burden invites the general public and other Federal agencies to take this opportunity to comment on the following information collection(s), as required by the Paperwork Reduction Act (PRA) of 1995, Public Law 104-13. An agency may not conduct or sponsor a collection of information unless it displays a currently valid control number. No person shall be subject to any penalty for failing to comply with a collection of information subject to the Paperwork Reduction Act (PRA) that does not display a valid control number. Comments are requested concerning (a) Whether the proposed collection of information is necessary for the proper performance of the functions of the Commission, including whether the information shall have practical utility; (b) the accuracy of the Commission's burden estimate; (c) ways to enhance the quality, utility, and clarity of the information collected; and (d) ways to minimize the burden of the collection of information on the respondents, including the use of automated collection techniques or other forms of information technology.

DATES: Written Paperwork Reduction Act (PRA) comments should be submitted on or before March 24, 2006. If you anticipate that you will be submitting PRA comments, but find it difficult to do so within the period of time allowed by this notice, you should advise the contact listed below as soon as possible.

ADDRESSES: Direct all Paperwork Reduction Act (PRA) comments to Judith B. Herman, Federal Communications Commission, Room 1-C804, 445 12th Street, SW., Washington, DC 20554 or via the Internet to Judith-B.Herman@fcc.gov. If you would like to obtain or view a copy of this information collection, you may do so by visiting the FCC PRA Web page at: http://www.fcc.gov/omd/pra.

FOR FURTHER INFORMATION CONTACT: For additional information or copies of the information collection(s), contact Judith B. Herman at 202-418-0214 or via the Internet at Judith-B.Herman@fcc.gov.

SUPPLEMENTARY INFORMATION: OMB Control No.: 3060-XXXX.

Title: Order and Implementing Public Notices Requiring BRS Channels 1 and/or 2/2A Licensees to File Data on the Construction Status and/or Operational Parameters of Each System.

Form No.: N/A.

Type of Review: New collection.

Respondents: Business or other for-profit and not-for-profit institutions.

Number of Respondents: 150.

Estimated Time per Response: .50-1.25 hours.

Frequency of Response: On occasion and one-time reporting requirements, recordkeeping requirement and third party disclosure requirement.

Total Annual Burden: 131 hours.

Total Annual Cost: $8,000.

Privacy Act Impact Assessment: N/A.

Needs and Uses: The Commission is submitting this information collection to OMB as a new collection in order to obtain the full three-year clearance from them. The Commission seeks OMB approval contained in an Order (FCC 05-172) which requires licensees of Broadband Radio Service (BRS) Channels 1 and/or 2/2A to file information on the construction status and/or operational parameters of each system. The Commission is seeking information on non-subscriber locations and operating characteristics of BRS receivers and other system characteristics of BRS incumbents (including operations by lessees) not currently collected on FCC Form 601 for this service. The Commission does not plan on incorporating this reporting requirement into the FCC Form 601 because it is a one-time collection. Respondents would submit the information as a separate attachment to their FCC 601 application.

This one-time collection is necessary because BRS Channels 1 and/or 2/2A are currently licensed at 2150-2150/62 MHz, which the Commission has designated for Advanced Wireless Services (AWS). The Commission also has announced that it intends to auction AWS licenses for 2150-2155 MHz, among other bands, as early as June 2006. Future AWS licensees will be obligated to relocate incumbent BRS operations in the 2150-2160/62 MHz band to comparable facilities, most likely within the newly restructured 2.5 GHz band. The Commission is currently reviewing comments filed in response to the Fifth Notice and considering the details of this relocation process in ET Docket No. 00-258 (FCC 05-172). However, in the Order, the Commission concluded that reliable, public data on each incumbent BRS system that will be subject to relocation is essential well in advance of this planned spectrum auction and that neither the Commission nor the public has reliable, up-to-date information on the construction status and/or operational parameters of these BRS systems. Accordingly, the Commission ordered licensees of BRS Channels 1 and/or 2/2A to submit information, listed in the Order, after the staff issued Public Notice(s) setting forth the specific data required, deadlines, and the procedures for filing this information electronically on the Commission's Universal Licensing System (ULS), where it will be available to the public. To assist in determining the scope of the new AWS entrants' relocation obligations, the Commission ordered BRS licensees in the 2150-2160/62 MHz band to provide the required data within 60 days and 120 days of the effective date of its Order, noting that these dates would correspond to OMB approval of the information collection, i.e., PRA requirements for the ULS.

Federal Communications Commission.
Marlene H. Dortch,
Secretary.

[FR Doc. E6-2486 Filed 2-21-06; 8:45 am]

BILLING CODE 6712-01-P